DEPARTMENT OF TRANSPORTATION

Federal Aviation Administration

14 CFR Part 39

[Docket No. FAA-2011-1226; Directorate Identifier 2011-NM-006-AD; Amendment 39-17001; AD 2012-06-20]

RIN 2120-AA64

Airworthiness Directives; Fokker Services B.V. Airplanes

AGENCY: Federal Aviation Administration (FAA), Department of Transportation (DOT).

ACTION: Final rule.

SUMMARY: We are adopting a new airworthiness directive (AD) for certain Fokker Services B.V. Model F.28 Mark 0070 and 0100 airplanes. This AD was prompted by a report that the fuel crossfeed valves cannot be controlled when only emergency electrical power is available, that an unwanted configuration of the indication logic for the fuel fire shutoff valve was introduced during production, and that current fuel crossfeed indications are based on selection by the flightcrew instead of actual position of the crossfeed valve actuators. This AD requires modifying the crossfeed valve control and power supply, the crossfeed indication logic and power supply, and the indication logic for the fuel fire shutoff valve; modifying the overhead panel; and for certain airplanes, modifying the transfer logic of the center wing fuel tank. We are issuing this AD to prevent failure of an in-flight engine re-light following a double engine flame-out event, which could result in loss of the airplane.

DATES: This AD becomes effective May 24, 2012.

The Director of the Federal Register approved the incorporation by reference of certain publications listed in this AD as of May 24, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on November 8, 2011 (76 FR 69163). That NPRM proposed to correct an unsafe condition for the specified products. The MCAI states:

A recent safety review revealed that the fuel crossfeed valves cannot be controlled when only emergency electrical power is available.

This condition, if not corrected, could (in combination with other factors) prevent an in-flight engine re-light following a double engine flame-out event, possibly resulting in loss of the aeroplane.

Another review revealed that an unwanted configuration of the fuel fire shut-off valve indication logic had been introduced during production on a limited number of F28 Mark 0100 aeroplanes.

Furthermore, most of the current fuel crossfeed indications are based on the crossfeed selection made by the flight crew and not on the actual positions of the crossfeed valve actuators. In combination with other factors, the current crossfeed indications may mislead flight crews, possibly resulting in single engine in-flight shutdowns and/or unnecessary precautionary landings.

For the reasons described above, this [EASA] AD requires modifications of the crossfeed valve control and power supply, of the crossfeed indication logic and power supply and of the fuel fire shut-off valve indication logic.

* * * * *

Required actions also include modifying the overhead panel (introducing provisions for a modified crossfeed indication), and, for certain airplanes, modifying the transfer logic of the center wing fuel tank. You may obtain further information by examining the MCAI in the AD docket.

Comments

We gave the public the opportunity to participate in developing this AD. We received no comments on the NPRM (76 FR 69163, November 8, 2011) or on the determination of the cost to the public.

Explanation of Changes Made to This AD

We have revised the heading for and the wording in paragraph (i) of this AD; this change has not changed the intent of that paragraph. We have also revised the document citations throughout this AD to more clearly identify the documents and their attachments.

Conclusion

We reviewed the relevant data and determined that air safety and the public interest require adopting the AD with the changes described previously—and minor editorial changes. We have determined that these minor changes:

• Are consistent with the intent that was proposed in the NPRM (76 FR 69163, November 8, 2011) for correcting the unsafe condition; and

• Do not add any additional burden upon the public than was already proposed in the NPRM (76 FR 69163, November 8, 2011).

Costs of Compliance

We estimate that this AD will affect 6 products of U.S. registry. We also estimate that it will take about 86 work-hours per product to comply with the basic requirements of this AD. The average labor rate is $85 per work-hour. Required parts will cost about $4,180 per product. Where the service information lists required parts costs that are covered under warranty, we have assumed that there will be no charge for these parts. As we do not control warranty coverage for affected parties, some parties may incur costs higher than estimated here. Based on these figures, we estimate the cost of this AD to the U.S. operators to be $68,940, or $11,490 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act. We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 69163, November 8, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-06-20 Fokker Services B.V.: Amendment 39-17001. Docket No. FAA-2011-1226; Directorate Identifier 2011-NM-006-AD.

(a) Effective Date

This airworthiness directive (AD) becomes effective May 24, 2012.

(b) Affected ADs

None.

(c) Applicability

This AD applies to Fokker Services B.V. Model F.28 Mark 0070 and 0100 airplanes, certificated in any category, serial numbers 11244 through 11585 inclusive.

(d) Subject

Air Transport Association (ATA) of America Code 28: Fuel.

(e) Reason

This AD was prompted by a report that the fuel crossfeed valves cannot be controlled when only emergency electrical power is available, that an unwanted configuration of the indication logic for the fuel fire shutoff valve was introduced during production, and that current fuel crossfeed indications are based on selection by the flightcrew instead of actual position of the crossfeed valve actuators. We are issuing this AD to prevent failure of an in-flight engine re-light following a double engine flame-out event, which could result in loss of the airplane.

(f) Compliance

You are responsible for having the actions required by this AD performed within the compliance times specified, unless the actions have already been done.

(g) Modifications

Within 24 months after the effective date of this AD, modify the crossfeed valve control and power supply, the crossfeed indication logic and power supply, and the indication logic for the fuel fire shutoff valve, in accordance with the Accomplishment Instructions of Fokker Service Bulletin SBF100-28-047, Revision 3, dated May 2, 2011, including the attachments specified in paragraphs (g)(1) through (g)(39) of this AD (*the issue date is not specified on the drawing).

(1) Fokker Manual Change Notification—Operational Documentation MCNO-F100-060, dated June 10, 2011.

(2) Fokker Manual Change Notification—Operational Document MCNO-F100-049, Revision 1, dated May 30, 2011.

(3) Fokker Drawing D42770, Sheet 6, Issue U*.

(4) Fokker Drawing D42780, Sheet 6, Issue T*.

(5) Fokker Drawing W41074, Sheet 100, Issue GB*.

(6) Fokker Drawing W41074, Sheet 101, Issue FW*.

(7) Fokker Drawing W41194, Sheet 010, Issue J*.

(8) Fokker Drawing W41194, Sheet 011, Issue U*.

(9) Fokker Drawing W41194, Sheet 012, Issue J*.

(10) Fokker Drawing W41194, Sheet 013, Issue U*.

(11) Fokker Drawing W41194, Sheet 014, Issue S*.

(12) Fokker Drawing W41194, Sheet 015, Issue U*.

(13) Fokker Drawing W41194, Sheet 017, Issue Q*.

(14) Fokker Drawing W41194, Sheet 019, Issue S*.

(15) Fokker Drawing W41194, Sheet 020, Issue S*.

(16) Fokker Drawing W41319, Sheet 063, Issue DY*.

(17) Fokker Drawing W41319, Sheet 064, Issue DY*.

(18) Fokker Drawing W41319, Sheet 065, Issue DY*.

(19) Fokker Drawing W41319, Sheet 066, Issue DY*.

(20) Fokker Drawing W41319, Sheet 067, Issue DW*.

(21) Fokker Drawing W41319, Sheet 068, Issue DW*.

(22) Fokker Drawing W41319, Sheet 069, Issue DY*.

(23) Fokker Drawing W41319, Sheet 070, Issue DW*.

(24) Fokker Drawing W41319, Sheet 071, Issue DY*.

(25) Fokker Drawing W41319, Sheet 072, Issue DW*.

(26) Fokker Drawing W41319, Sheet 073, Issue DW*.

(27) Fokker Drawing W41319, Sheet 074, Issue DY*.

(28) Fokker Drawing W46211, Sheet 71, Issue DL, dated April 21, 2009.

(29) Fokker Drawing W46211, Sheet 74, Issue DN, dated July 16, 2010.

(30) Fokker Drawing W46254, Sheet 30, Issue BL, dated March 30, 2009.

(31) Fokker Drawing W46254, Sheet 31, Issue BL, dated March 30, 2009.

(32) Fokker Drawing W46254, Sheet 32, Issue BL, dated March 30, 2009.

(33) Fokker Drawing W46254, Sheet 33, Issue BL, dated March 30, 2009.

(34) Fokker Drawing W46254, Sheet 34, Issue BL, dated March 30, 2009.

(35) Fokker Drawing W46254, Sheet 35, Issue BL, dated March 30, 2009.

(36) Fokker Drawing W46254, Sheet 36, Issue BL, dated March 30, 2009.

(37) Fokker Drawing W46254, Sheet 37, Issue BP, dated March 30, 2009.

(38) Fokker Drawing W59221, Sheet 161, Issue FC, July 9, 2010.

(39) Fokker Drawing W59221, Sheet 162, Issue FC, July 9, 2010.

(h) Concurrent Modifications

Before or concurrent with the modification specified in paragraph (g) of this AD, do the applicable actions specified in paragraphs (h)(1) and (h)(2) of this AD:

(1) For all airplanes: Modify the overhead panel (introduce provisions for a modified crossfeed indication) in accordance with the Accomplishment Instructions of Fokker Proforma Service Bulletin SBF100-28-043, Revision 1, dated March 31, 2009, including Appendix II, Revision 2, dated July 22, 2010, including the drawings specified in paragraphs (h)(i) through (h)(iv) of this AD, which are attached to Appendix II, Revision 2, dated July 22, 2010 (*the issue date is not specified on the drawing).

(i) Fokker Drawing W41194, Sheet 009, Issue F*.

(ii) Fokker Drawing W41194, Sheet 016, Issue N*.

(iii) Fokker Drawing W41194, Sheet 018, Issue S*.

(iv) Fokker Drawing W59221, Sheet 159, Issue ED, dated October 2, 2009.

(2) For airplanes with serial numbers 11442 through 11585, equipped with the automatic fuel transfer system: Modify the transfer logic of the center wing fuel tank, in accordance with the Accomplishment Instructions of Fokker Service Bulletin SBF100-28-052, dated June 15, 2009, including the attachments specified in paragraphs (h)(2)(i) through (h)(2)(vii) of this AD.

(i) Fokker Manual Change Notification—Operational Documentation MCNO-F100-052, dated June 15, 2009.

(ii) Fokker Manual Change Notification—Maintenance Documentation MCNM-F100-126, dated June 15, 2009.

(iii) Fokker Drawing D42126, Sheet 38, Issue AR, dated October 6, 1993.

(iv) Fokker Drawing D42213, Sheet 2, Issue H, dated May 23, 1990.

(v) Fokker Drawing D42220, Sheet 60, Issue V, dated September 1, 1991.

(vi) Fokker Drawing D42220, Sheet 71, Issue AQ, dated June 7, 1993.

(vii) Fokker Drawing D42250, Sheet 23, Issue U, dated April 1993.

(i) Credit for Previous Actions

This paragraph provides credit for modifications required by paragraphs (g) and (h) of this AD, if the modifications were performed before the effective date of this AD, using the applicable service bulletins specified in paragraphs (i)(1), (i)(2), (i)(3), and (i)(4) of this AD.

(1) Fokker Service Bulletin SBF100-28-043, including Appendix II, dated March 31, 2009.

(2) Fokker Service Bulletin SBF100-28-047, Revision 2, dated August 4, 2010.

(3) Fokker Service Bulletin SBF100-28-047, Revision 1, dated July 22, 2010.

(4) Fokker Service Bulletin SBF100-28-047, dated May 10, 2010.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency Airworthiness Directive 2010-0158R1, dated November 8, 2010, and the service bulletins specified in paragraphs (g) and (h) of this AD, for related information.

(l) Material Incorporated by Reference

(1) You must use the following service information to do the actions required by this AD, unless the AD specifies otherwise. The Director of the Federal Register approved the incorporation by reference (IBR) of the following service information under 5 U.S.C. 552(a) and 1 CFR part 51:

(i) Fokker Proforma Service Bulletin SBF100-28-043, Revision 1, dated March 31, 2009, including Appendix II, Revision 2, dated July 22, 2010, and including the following drawings which are attached to Appendix II, Revision 2, dated July 22, 2010 (*the issue date is not specified on the drawing):

(A) Fokker Drawing W41194, Sheet 009, Issue F*.

(B) Fokker Drawing W41194, Sheet 016, Issue N*.

(C) Fokker Drawing W41194, Sheet 018, Issue S*.

(D) Fokker Drawing W59221, Sheet 159, Issue ED, dated October 2, 2009.

(ii) Fokker Service Bulletin SBF100-28-047, Revision 3, dated May 2, 2011, including the following attachments (*the issue date is not specified on the drawing):

(A) Fokker Manual Change Notification—Operational Documentation MCNO-F100-060, dated June 10, 2011.

(B) Fokker Manual Change Notification—Operational Document MCNO-F100-049, Revision 1, dated May 30, 2011.

(C) Fokker Drawing D42770, Sheet 6, Issue U*.

(D) Fokker Drawing D42780, Sheet 6, Issue T*.

(E) Fokker Drawing W41074, Sheet 100, Issue GB*.

(F) Fokker Drawing W41074, Sheet 101, Issue FW*.

(G) Fokker Drawing W41194, Sheet 010, Issue J*.

(H) Fokker Drawing W41194, Sheet 011, Issue U*.

(I) Fokker Drawing W41194, Sheet 012, Issue J*.

(J) Fokker Drawing W41194, Sheet 013, Issue U*.

(K) Fokker Drawing W41194, Sheet 014, Issue S*.

(L) Fokker Drawing W41194, Sheet 015, Issue U*.

(M) Fokker Drawing W41194, Sheet 017, Issue Q*.

(N) Fokker Drawing W41194, Sheet 019, Issue S*.

(O) Fokker Drawing W41194, Sheet 020, Issue S*.

(P) Fokker Drawing W41319, Sheet 063, Issue DY*.

(Q) Fokker Drawing W41319, Sheet 064, Issue DY*.

(R) Fokker Drawing W41319, Sheet 065, Issue DY*.

(S) Fokker Drawing W41319, Sheet 066, Issue DY*.

(T) Fokker Drawing W41319, Sheet 067, Issue DW*.

(U) Fokker Drawing W41319, Sheet 068, Issue DW*.

(V) Fokker Drawing W41319, Sheet 069, Issue DY*.

(W) Fokker Drawing W41319, Sheet 070, Issue DW*.

(X) Fokker Drawing W41319, Sheet 071, Issue DY*.

(Y) Fokker Drawing W41319, Sheet 072, Issue DW*.

(Z) Fokker Drawing W41319, Sheet 073, Issue DW*.

(AA) Fokker Drawing W41319, Sheet 074, Issue DY*.

(BB) Fokker Drawing W46211, Sheet 71, Issue DL, dated April 21, 2009.

(CC) Fokker Drawing W46211, Sheet 74, Issue DN, dated July 16, 2010.

(DD) Fokker Drawing W46254, Sheet 30, Issue BL, dated March 30, 2009.

(EE) Fokker Drawing W46254, Sheet 31, Issue BL, dated March 30, 2009.

(FF) Fokker Drawing W46254, Sheet 32, Issue BL, dated March 30, 2009.

(GG) Fokker Drawing W46254, Sheet 33, Issue BL, dated March 30, 2009.

(HH) Fokker Drawing W46254, Sheet 34, Issue BL, dated March 30, 2009.

(II) Fokker Drawing W46254, Sheet 35, Issue BL, dated March 30, 2009.

(JJ) Fokker Drawing W46254, Sheet 36, Issue BL, dated March 30, 2009.

(KK) Fokker Drawing W46254, Sheet 37, Issue BP, dated March 30, 2009.

(LL) Fokker Drawing W59221, Sheet 161, Issue FC, July 9, 2010.

(MM) Fokker Drawing W59221, Sheet 162, Issue FC, July 9, 2010.

(iii) Fokker Service Bulletin SBF100-28-052, dated June 15, 2009, including the following attachments:

(A) Fokker Manual Change Notification—Operational Documentation MCNO-F100-052, dated June 15, 2009.

(B) Fokker Manual Change Notification—Maintenance Documentation MCNM-F100-126, dated June 15, 2009.

(C) Fokker Drawing D42126, Sheet 38, Issue AR, dated October 6, 1993.

(D) Fokker Drawing D42213, Sheet 2, Issue H, dated May 23, 1990.

(E) Fokker Drawing D42220, Sheet 60, Issue V, dated September 1, 1991.

(F) Fokker Drawing D42220, Sheet 71, Issue AQ, dated June 7, 1993.

(G) Fokker Drawing D42250, Sheet 23, Issue U, dated April 1993.

(2) For Fokker Services B.V. service information identified in this AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on March 19, 2012.
Ali Bahrami,
Manager, Transport Airplane Directorate, Aircraft Certification Service.

[FR Doc. 2012-9294 Filed 4-18-12; 8:45 am]

BILLING CODE 4910-13-P